DEPARTMENT OF EDUCATION

Privacy Act of 1974; System of Records—Impact Evaluation of Academic Instruction for After-School Programs

AGENCY: Institute of Education Sciences, Department of Education.

ACTION: Notice of a new system of records.

SUMMARY: In accordance with the Privacy Act of 1974, as amended (Privacy Act), the Department of Education (Department) publishes this notice of a new system of records entitled “Impact Evaluation of Academic Instruction for After-School Programs” (18-13-13).

The National Center for Education Evaluation and Regional Assistance at the Department's Institute of Education Sciences (IES) commissioned this evaluation. It will address the following two questions:

(1) What is the effectiveness of offering intensive research-based reading support in an after-school program?

(2) Is it more effective than offering more general academic support such as homework help?

The system will contain information about approximately 4,000 elementary school students and their teachers (approximately 600 teachers—12 teachers in each of the studied centers) in 40 to 50 after-school centers in 20 to 25 school districts yet to be determined. One quarter of these students will be participants using a mathematics curriculum, one quarter will be participants using a reading curriculum, and half will be in a control group. The system will include these students' names and demographic information, such as race/ethnicity, age, gender, and educational background, their results on reading or math assessments, and some of their school records data such as attendance and academic history. The system will also include responses to student and teacher surveys.

DATES: The Department seeks comment on this new system of records described in this notice, in accordance with the requirements of the Privacy Act. We must receive your comments on the proposed routine uses for the system of records described in this notice on or before July 21, 2005.

The Department filed a report describing the new system of records covered by this notice with the Chair of the Senate Committee on Homeland Security and Governmental Affairs, the Chair of the House Committee on Government Reform, and the Administrator of the Office of Information and Regulatory Affairs, Office of Management and Budget (OMB) on June 16, 2005. This system of records will become effective at the later date of—(1) the expiration of the 40 day period for OMB review on July 26, 2005 or (2) July 21, 2005, unless the system of records needs to be changed as a result of public comment or OMB review.

ADDRESSES: Address all comments about the proposed routine uses the system or records described in this notice to Dr. Ricky Takai, Associate Commissioner, Evaluation Division, National Center for Education Evaluation and Regional Assistance, Institute of Education Sciences, U.S. Department of Education, 555 New Jersey Avenue, NW., room 502D, Washington, DC 20208. Telephone: (202) 208-7083. If you prefer to send comments through the Internet, use the following address: comments@ed.gov.

You must include the term “After-School Interventions” in the subject line of the electronic message.

During and after the comment period, you may inspect all comments about this notice in room 502D, 555 New Jersey Avenue, NW., Washington, DC, between the hours of 8:00 a.m. and 4:30 p.m., Eastern time, Monday through Friday of each week except Federal holidays.

Assistance to Individuals With Disabilities in Reviewing the Rulemaking Record

On request, we supply an appropriate aid, such as a reader or print magnifier, to an individual with a disability who needs assistance to review the comments or other documents in the public rulemaking record for this notice. If you want to schedule an appointment for this type of aid, please contact the person listed under FOR FURTHER INFORMATION CONTACT.

FOR FURTHER INFORMATION CONTACT: Dr. Ricky Takai. Telephone: (202) 208-7083. If you use a telecommunications device for the deaf (TDD), you may call the Federal Relay Service (FRS) at 1-800-877-8339.

Individuals with disabilities may obtain this document in an alternative format (e.g., Braille, large print, audiotape, or computer diskette) on request to the contact person listed in this section.

SUPPLEMENTARY INFORMATION:

Introduction

The Privacy Act (5 U.S.C. 552a) requires the Department to publish in the Federal Register this notice of a new system of records maintained by the Department. The Department's regulations implementing the Act are contained in the Code of Federal Regulations (CFR) in 34 CFR part 5b.

The Privacy Act applies to information about individuals that contains individually identifiable information and that is retrieved by a unique identifier associated with each individual, such as a name or social security number. The information about each individual is called a “record,” and the system, whether manual or computer-based, is called a “system of records.” The Privacy Act requires each agency to publish notices of new or altered systems of records in the Federal Register and to submit reports to the Administrator of the Office of Information and Regulatory Affairs, Office of Management and Budget (OMB), the Chair of the Senate Committee on Homeland Security and Governmental Affairs, and the Chair of the House Committee on Government Reform.

Electronic Access to This Document

You may view this document, as well as all other documents of this Department published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoaccess.gov/nara/index.html.

Dated: June 16, 2005.
Grover Whitehurst,
Director, Institute of Education Sciences.

For the reasons discussed in the preamble, the Director of the Institute of Education Sciences, U.S. Department of Education, publishes a notice of a new system of records to read as follows:

18-13-13

SYSTEM NAME:

Impact Evaluation of Academic Instruction For After-School Programs.

SECURITY CLASSIFICATION:

None.

SYSTEM LOCATION:

(1) Evaluation Division, National Center for Education Evaluation and Regional Assistance, Institute of Education Sciences, U.S. Department of Education, 555 New Jersey Avenue, NW., room 502D, Washington, DC 20208.

(2) MDRC, 16 East 34th Street, New York, NY 10016.

(3) Private/Public Ventures (P/PV), 2000 Market Street, Suite 600, Philadelphia, PA 19103.

(4) Survey Research Management, 1495 Yarmouth Avenue, Suite A, Boulder, Colorado 80304.

The impact evaluation is being conducted by MDRC in collaboration with the Bloom Associates, P/PV, and Survey Research Management. Bloom Associates will not maintain records from this system of records.

CATEGORIES OF INDIVIDUALS COVERED BY THE SYSTEM:

The system will contain information about approximately 4,000 elementary school students and their teachers (approximately 600 teachers—12 teachers in each of the studied centers) in 40 to 50 after-school centers in 20 to 25 school districts yet to be determined. One quarter of these students will be participants using a mathematics curriculum, one quarter will be participants using a reading curriculum, and half will be in a control group. Participation in the study is voluntary. The goal of this study is to establish and evaluate the effects of two supplemental academic programs (a reading program developed by Success For All and a mathematics program developed by Harcourt Publishers) for students with reading and math skills below grade level who participate in after-school programs. Study sites will include, but not be limited to, after-school programs funded by the 21st Century Community Learning Centers program.

CATEGORIES OF RECORDS IN THE SYSTEM:

The system will include the students' names, demographic information such as race/ethnicity, age, gender, and educational background, their results on standardized achievement tests, and some of their school records data, such as attendance and academic history. The system will also include responses to survey questions from the students and from the teachers of these students. These surveys will request information about the teachers' backgrounds, professional experience, and training, as well as information about the academic interventions. The student surveys will request information about the students' participation in after-school activities and other supplemental reading and mathematics activities.

AUTHORITY FOR MAINTENANCE OF THE SYSTEM:

The evaluation being conducted is authorized under: (1) Sections 171(b) and 173 of the Education Sciences Reform Act of 2002 (ESRA) (20 U.S.C. 9561(b) and 9563); and (2) section 4202(a)(2) of the Elementary and Secondary Education Act of 1965 (ESEA), as amended by the No Child Left Behind Act of 2001 (NCLB) (20 U.S.C. 7172(a)(2)).

PURPOSE(S):

The information in this system will be used for the following purpose: to test innovative instructional strategies to be implemented in the after-school programs selected for the study. In particular, this system is necessary to provide information for analyses of the effectiveness of specific reading and mathematics interventions on elementary school students who participate in after-school programs.

ROUTINE USES OF RECORDS MAINTAINED IN THE SYSTEM, INCLUDING CATEGORIES OF USERS AND THE PURPOSES OF SUCH USES:

The Department of Education (Department) may disclose information contained in a record in this system of records under the routine uses listed in this system of records without the consent of the individual if the disclosure is compatible with the purposes for which the record was collected. These disclosures may be made on a case-by-case basis or, if the Department has complied with the computer matching requirements of the Privacy Act, under a computer matching agreement. Any disclosure of individually identifiable information from a record in this system must also comply with the requirements of section 183 of the ESRA (20 U.S.C. 9573) providing for confidentiality standards that apply to all collections, reporting, and publication of data by IES.

(1) Freedom of Information Act (FOIA) Advice Disclosure. The Department may disclose records to the U.S. Department of Justice and the Office of Management and Budget if the Department concludes that disclosure is desirable or necessary in determining whether particular records are required to be disclosed under the FOIA.

(2) Contract Disclosure. If the Department contracts with an entity for the purposes of performing any function that requires disclosure of records in this system to employees of the contractor, the Department may disclose the records to those employees. Before entering into such a contract, the Department requires the contractor to maintain Privacy Act safeguards as required under 5 U.S.C. 552a(m) with respect to the records in the system.

(3) Research Disclosure. The Department may disclose records to a researcher if an appropriate official of the Department determines that the individual or organization to which the disclosure would be made is qualified to carry out specific research related to functions or purposes of this system of records. The official may disclose records from this system of records to that researcher solely for the purpose of carrying out that research related to the functions or purposes of this system of records. The researcher must maintain Privacy Act safeguards with respect to the disclosed records.

DISCLOSURE TO CONSUMER REPORTING AGENCIES:

Not applicable to this system notice.

POLICIES AND PRACTICES FOR STORING, RETRIEVING, ACCESSING, RETAINING, AND DISPOSING OF RECORDS IN THE SYSTEM:

STORAGE:

The Department maintains records on CD-ROM, and the contractor and subcontractors maintain data for this system on computers and in hard copy.

RETRIEVABILITY:

Records in this system are indexed by a number assigned to each individual that is cross-referenced by the individual's name on a separate list.

SAFEGUARDS:

All physical access to the Department's site and to the sites of the Department's contractor and subcontractors, where this system of records is maintained, is controlled and monitored by security personnel. The computer system employed by the Department offers a high degree of resistance to tampering and circumvention. This computer system permits data access to Department and contract staff only on a “need-to-know” basis and controls individual users” ability to access and alter records within the system. The contractor, MDRC, and its subcontractors, P/PV, and Survey Research Management, have established similar sets of procedures at their sites to ensure confidentiality of data. Their systems ensure that information identifying individuals is in files physically separated from other research data. They will maintain security of the complete set of all master data files and documentation. Access to individually identifiable data will be strictly controlled. At each site all data will be kept in locked file cabinets during nonworking hours, and work on hard-copy data will take place in a single room, except for data entry. Physical security of electronic data will also be maintained. Security features that protect project data include password-protected accounts that authorize users to use the MDRC, P/PV, or Survey Research Management system only to access specific network directories and network software; user rights and directory and file attributes that limit those who can use particular directories and files and determine how they can use them; e-mail passwords that authorize the user to access mail services; and additional security features that the network administrators establish for projects as needed. The contractor and subcontractor employees who maintain (collect, maintain, use, or disseminate) data in this system must comply with the requirements of the confidentiality standards in section 183 of the ESRA (20 U.S.C. 9573).

RETENTION AND DISPOSAL:

Records are maintained and disposed of in accordance with the Department of Education's Records Disposition Schedules, Part 3, Items 2b and 5a.

SYSTEM MANAGER AND ADDRESS:

Associate Commissioner, Evaluation Division, National Center for Education Evaluation and Regional Assistance, Institute of Education Sciences, U.S. Department of Education, 555 New Jersey Avenue, NW., room 502D, Washington, DC 20208.

NOTIFICATION PROCEDURE:

If you wish to determine whether a record exists regarding you in the system of records, contact the systems manager. Your request must meet the requirements of regulations at 34 CFR 5b.5, including proof of identity.

RECORD ACCESS PROCEDURES:

If you wish to gain access to your record in the system of records, contact the system manager. Your request must meet the requirements of regulations at 34 CFR 5b.5, including proof of identity.

CONTESTING RECORD PROCEDURES:

If you wish to contest the content of a record regarding you in the system of records, contact the system manager. Your request must meet the requirements of regulations at 34 CFR 5b.7, including proof of identity.

RECORD SOURCE CATEGORIES:

The system will include information obtained from the students, including names, demographic information such as race/ethnicity, age, gender, and educational background, and their results on standardized achievement tests. The system will also include responses to survey questions from the students and from the teachers of these students. These surveys will request information about the teachers' backgrounds, professional experience, and training, as well as information about the academic interventions. The student surveys will request information about the students' participation in after-school activities and other supplemental reading and math activities. This system also consists of information obtained from the student's school, such as data about the student's attendance and academic history.

EXEMPTIONS CLAIMED FOR THE SYSTEM:

None.

[FR Doc. 05-12226 Filed 6-20-05; 8:45 am]

BILLING CODE 4000-01-P